DEPARTMENT OF JUSTICE

Notice of Lodging of Consent Decrees Under the Comprehensive Environmental Response, Compensation, and Liability Act

The United States Department of Justice gives notice that on October 26, 2006, a proposed consent decree was lodged in United States v. Bunge North America Inc., et al., Civil Action No. 2:06-cv-02209-MPM-DGB, in the United States District Court for the Central District of Illinois.

The consent decree resolves claims against Bunge North America, Inc. and its wholly owned subsidiaries Bunge North America (East), L.L.C., Bunge North America (OPD West), Inc., and Bunge Milling, Inc. under Section 113 of the Clean Air Act, 42 U.S.C. 7413. The United States' complaint alleges that at some or all of the twelve plants subject to the proposed consent decree, one of the Defendants violated Clean Air Act requirements related to: Part C of Title I, 42 U.S.C. 7470-7492, Prevention of Significant Deterioration; Title V, 42 U.S.C. 7661-7661f, Permits; certain New Source Performance Standards, 42 U.S.C. 7411, 40 CFR Part 60; the state implementation plans (“SIPs”) for the eight states in which the plants are located; and SIP permitting programs for construction and operation of new and modified stationary sources of air pollution.

The plants subject to the consent decree include eleven soybean processing plants and one corn dry mill. The soybean processing plants are located in: Danville, Illinois; Cairo, Illinois; Morristown, Indiana; Decatur, Indiana; Delphos, Ohio; Marion, Ohio; Council Bluffs, Iowa; Emporia, Kansas; Destrehan, Louisiana; Marks, Mississippi; and Decatur, Alabama. The corn dry mill is located in Danville, Illinois. All eight states where the plants are located have filed motions to intervene as plaintiffs in the case and are participating in the settlement.

The proposed consent decree would require Defendants to reduce emissions of volatile organic compounds from the plants by complying with interim limits, and setting and complying with final limits, on each plant's solvent loss ratio (SLR). Under the terms of the consent decree, the final solvent loss ratio for each of the eleven soybean plants may not exceed 0.2 gallon of solvent lost per ton of oilseeds processed (gal/ton) or the plant's existing permit limit, whichever is lower, and the final capacity-weighted average SLR for the eleven soybean plants may not exceed 0.175 gal/ton. The consent decree would limit the SLR ratio for the corn dry mill plant to a maximum of 0.70 gal/ton based on content of hazardous air pollutants.

The consent decree would also require Defendants to undertake specified additional pollution control projects at various plants, to reduce emissions of sulfur dioxide, nitrogen oxides, and particulate matter. Defendants would also be required to pay a civil penalty of $625,000, which would be divided among the federal government and the eight states, and to spend at least $1.25 million performing state supplemental environmental projects to achieve additional environmental benefits, including at least one project in each of the eight states.

The Department of Justice will receive, for a period of thirty (30) days from the date of this publication, comments relating to the consent decree. Comments should be addressed to the Assistant Attorney General, Environment and Natural Resources Division, P.O. Box 7611, U.S. Department of Justice, Washington, DC 20044-7611, and should refer to United States v. Bunge North America, Inc., DOJ Ref. # 90-5-2-1-07950.

The Consent Decree may be examined at the Office of the United States Attorney, Central District of Illinois, 201 South Vine Street, Suite 226, Urbana, Illinois 61802, and at the offices of the United States Environmental Protection Agency in Region 5, 77 W. Jackson Blvd., Chicago, Illinois 60604, Region 4, 61 Forsyth Street, Atlanta, Georgia 30303, Region 6, 1445 Ross Avenue, Suite 1200, Dallas, Texas 75202, and Region 7, 901 N. 5th Street, Kansas City, Kansas 66101. During the public comment period, the consent decree may also be examined on the following Department of Justice Web site: http://www.usdoj.gov/enrd/Consent_Decrees.html.

A copy of the consent decree may also be obtained by mail from the Consent Decree Library, P.O. Box 7611, U.S. Department of Justice, Washington, DC 20044-7611, or by faxing or e-mailing a request to Tonia Fleetwood. tonia.fleetwood@usdoj.gov, Fax No. (202) 514-0097, phone confirmation number (202) 514-1547. In requesting a copy from the Consent Decree library, please enclose a check payable to the U.S. Treasury in the amount of $48.25 (for reproduction costs of 25 cents per page for the consent decree and ten attachments).

William D. Brighton,
Assistant Section Chief, Environmental Enforcement Section, Environment and Natural Resources Division.

[FR Doc. 06-9166 Filed 11-9-06; 8:45 am]

BILLING CODE 4410-15-M